DEPARTMENT OF DEFENSE

Office of the Secretary

Defense Health Board; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Defense Health Board, Neurological/Behavioral Health Subcommittee will take place.

DATES: Open to the public Tuesday, May 16, 2017 from 12:00 p.m. to 2:00 p.m.

ADDRESSES: The address of the open meeting is the Defense Health Headquarters (DHHQ), Pavilion Salons B-C, 7700 Arlington Blvd., Falls Church, Virginia 22042 (escort required; see guidance in SUPPLEMENTARY INFORMATION, “Public's Accessibility to the Meeting”).

FOR FURTHER INFORMATION CONTACT: CAPT Juliann Althoff; Camille Gaviola, (703) 681-6653 (Voice), (703) 681-9539 (Facsimile), juliann.m.althoff.mil@mail.mil (Email). camille.m.gaviola.civ@mail.mil (Email). Mailing address is 7700 Arlington Boulevard, Suite 5101, Falls Church, Virginia 22042. Web site: http://www.health.mil/dhb. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Availability of Materials for the Meeting: A copy of the agenda or any updates to the agenda for the May 16, 2017 meeting, as well as any other materials presented in the meeting, may be obtained at the meeting.

Purpose of the Meeting: The Department of Defense is publishing this notice to announce the following Federal Advisory Committee meeting of the Neurological/Behavioral Health Subcommittee (“the Subcommittee”) of the Defense Health Board (DHB). The DHB provides independent advice and recommendations to maximize the safety and quality of, as well as access to, health care for DoD health care beneficiaries. The Subcommittee provides recommendations and advice to the DHB on matters pertaining to psychological/mental health issues and neurological symptoms or conditions. The Subcommittee is examining opportunities to improve the provision of behavioral health care and related services for children of members of the Armed Forces to better promote the health of this beneficiary population. The purpose of the meeting is for the Subcommittee members to receive public comments concerning pediatric behavioral health care in the Military Health System during an open forum, focusing on the following:

• Evaluate the quality of and access to behavioral health care under the TRICARE program for children, including intensive outpatient and partial hospitalization services.

• Measure the impact of permanent changes of station and other service-related relocations on the continuity of health care services received by children who have special medical or behavioral health needs.

• Identify the extent to which children receive developmentally appropriate and age appropriate health care services in both the direct care and purchased care components.

• Evaluate whether children have ready access to specialty pediatric care. The DoD has invited members of the Department of Defense Military Family Readiness Council and the DHB Health Care Delivery Subcommittee to attend the meeting in their capacity as members of the public due to their ongoing work regarding pediatric health care for DoD beneficiaries.

Agenda: Pursuant to 5 U.S.C. 552b and 41 CFR 102-3.140 through 102-3.165 and subject to availability of space, the Subcommittee meeting is open to the public from 12:00 p.m. to 2:00 p.m. on May 16, 2017. The Subcommittee will receive public comments on pediatric-related health services issues. The Designated Federal Officer (DFO), in consultation with the Subcommittee Chair, will allot time for members of the public to present their issues for review and discussion, restricting speaking time to 2-3 minutes per person. Members of the public must sign up to speak (see guidance in SUPPLEMENTARY INFORMATION, “Public Comments”).

Meeting Accessibility: Pursuant to 5 U.S.C. 552b, and 41 CFR 102-3.140 through 102-3.165 and subject to availability of space, this meeting is open to the public. Seating is limited and is on a first-come basis. All members of the public who wish to attend the public meeting must register no later than 12:00 p.m. on Tuesday, May 9, 2017 using the electronic registration available at the following link: http://www.surveygizmo.com/s3/3442415/May-16-2017-Public-Attendee-Registration or by contacting Ms. Kendal Brown at (703) 681-6670 or kendal.l.brown2.ctr@mail.mil.

Special Accommodations: Individuals requiring special accommodations to access the public meeting should contact Ms. Kendal Brown at least five (5) business days prior to the meeting so that appropriate arrangements can be made.

Written Statements: Any member of the public wishing to provide comments to the Subcommittee may do so in accordance with section 10(a)(3) of the Federal Advisory Committee Act, 41 CFR 102-3.105(j) and 102-3.140, and the procedures described in this notice. Written statements may be submitted to the DHB Alternate DFO, Ms. Camille Gaviola, at camille.m.gaviola.civ@mail.mil and should be no longer than two type-written pages and include the issue, a short discussion, and a recommended course of action. Supporting documentation may also be included, to establish the appropriate historical context and to provide any necessary background information. If the written statement is not received at least five (5) business days prior to the meeting, the DFO may choose to postpone consideration of the statement until the next open meeting. The DFO will review all timely submissions with the Subcommittee Chair and ensure they are provided to members of the Subcommittee before the meeting that is subject to this notice.

Public Comments: Members of the public must sign up to speak by contacting Ms. Kendal Brown at (703) 681-6670 or kendal.l.brown2.ctr@mail.mil or by signing up at the reception table at the meeting. Public comments will be received by the Subcommittee in order of sign-up and within the time limits of the meeting. Those who provide public comment are strongly encouraged to also provide written statements to support their comments (see guidance in “Written Statements” section).

Dated: April 21, 2017.
Aaron Siegel,
Alternate OSD Federal Register Liaison Officer, Department of Defense.

[FR Doc. 2017-08417 Filed 4-25-17; 8:45 am]

BILLING CODE 5001-06-P